DEPARTMENT OF DEFENSE

Department of the Army

Intent To Grant an Exclusive or Partially Exclusive License to Whithner Corporation

AGENCY: U.S. Army Research Laboratory, DoD.

ACTION: Notice of Intent.

SUMMARY: In compliance with 37 CFR 404 et seq., the Department of the Army hereby gives notice of its intent to grant to Whithner Corporation, a corporation having its principle place of business at 6300 Blair Hill Lane, Baltimore, MD 21209, an exclusive or partially exclusive license relative to a patented ARL technology (US Patent #5,669,608; Device for Locating the Position of Impact of a Projectile; issued 23 September 1997; Thomson, et al.). Anyone wishing to object to the granting of this license has 60 days from the date of this notice to file written objections along with supporting evidence, if any.

FOR FURTHER INFORMATION CONTACT: Michael D. Rausa, U.S. Army Research Laboratory, Office of Research and Technology Applications, ATTN: AMSRL-CS-TT/Bldg. 459, Aberdeen Proving Ground, Maryland 21005-5425, Telephone: (410) 278-5028.

SUPPLEMENTARY INFORMATION: None.

Gregory D. Showalter,
Army Federal Register Liaison Officer.

[FR Doc. 00-17507 Filed 7-10-00; 8:45 am]

BILLING CODE 3710-08-M